NUCLEAR REGULATORY COMMISSION

[Docket No. 30-35870-EA, ASLBP No. 02-800-01-EA]

United Evaluation Services, Inc.; Establishment of Atomic Safety and Licensing Board

Pursuant to delegation by the Commission dated December 29, 1972, published in the Federal Register, 37 FR 28,710 (1972), and sections 2.105, 2.700, 2.702, 2.714, 2.714a, 2.717, 2.721, and 2.772(j) of the Commission's Regulations, all as amended, an Atomic Safety and Licensing Board is being established to preside over the following proceeding:

United Evaluation Services, Inc., Beachwood, New Jersey

This Board is being established pursuant to an Order Suspending License (Effective Immediately) and Demand for Information issued by the NRC Staff on May 14, 2002. The Order, which suspended, effective immediately, the 10 CFR part 30 license of United Evaluation Services, Inc., authorizing its possession and use of certain byproduct material for industrial radiography, was published in the Federal Register (67 FR 36,038 (May 22, 2002)). The proceeding involves a May 17, 2002 request for a hearing submitted by Joseph J. Ferenc, President, on behalf of United Evaluation Services, Inc., including a request to set aside the immediate effectiveness of the order.

The Board is comprised of the following administrative judges:

G. Paul Bollwerk, III, Chair, Atomic Safety and Licensing Board Panel, U.S. Nuclear Regulatory Commission, Washington, DC 20555-0001.

Dr. Richard F. Cole, Atomic Safety and Licensing Board Panel, U.S. Nuclear Regulatory Commission, Washington, DC 20555-0001.

Thomas D. Murphy, Atomic Safety and Licensing Board Panel, U.S. Nuclear Regulatory Commission, Washington, DC 20555-0001.

All correspondence, documents, and other materials shall be filed with the administrative judges in accordance with 10 CFR 2.701.

Issued at Rockville, Maryland, this 29th day of May 2002.
G. Paul Bollwerk, III,
Chief Administrative Judge, Atomic Safety and Licensing Board Panel.

[FR Doc. 02-13905 Filed 6-3-02; 8:45 am]

BILLING CODE 7590-01-P